DEPARTMENT OF DEFENSE

Department of the Army

Army Science Board Closed Meeting Notice

AGENCY: Department of the Army, DoD.

ACTION: Notice of a closed meeting.

SUMMARY: Pursuant to the Federal Advisory Committee Act of 1972, the Sunshine in the Government Act of 1976 and the Code of the Federal Regulations, the Department of the Army announces the following committee meeting:

Name of Committee: Army Science Board (ASB) Summer Voting Session.

Date: Thursday, July 19, 2018.

Time: 8:30 a.m. to 12:30 p.m.

Location: Arnold and Mabel Beckman Center of the National Academies of Sciences and Engineering, 100 Academy Way, Irvine, CA 92617.

Purpose of Meeting: The purpose of the meeting is for ASB members to review, deliberate, and vote on the findings and recommendations presented for four Fiscal Year 2018 (FY18) ASB studies.

Agenda: The board will present findings and recommendations for deliberation and vote on the following FY17 studies:

Multi-Domain Operations. This study is classified and will be presented in a closed meeting at 8:30 a.m. to 10:00 p.m.

Man Unmanned-Teaming. This study is classified and will be presented in a closed meeting at 10:15 a.m. to 12:30 p.m.

FOR FURTHER INFORMATION CONTACT: Army Science Board, Designated Federal Officer, 2530 Crystal Drive, Suite 7098, Arlington, VA 22202; Ms. Heather J. Gerard (Ierardi), the committee's Designated Federal Officer (DFO), at (703) 545-8652 or email: heather.j.ierardi.civ@mail.mil, or Mr. Paul Woodward at (703) 695-8344 or email: paul.j.woodward2.civ@mail.mil.

SUPPLEMENTARY INFORMATION:

(Filing Written Statement): Pursuant to 41 CFR 102-3.140d, the Committee is not obligated to allow the public to speak; however, interested persons may submit a written statement for consideration by the Subcommittees. Individuals submitting a written statement must submit their statement to the DFO at the address listed above. Written statements not received at least 10 calendar days prior to the meeting may not be considered by the Board prior to its scheduled meeting.

The DFO will review all timely submissions with the Board's executive committee and ensure they are provided to the specific study members as necessary before, during, or after the meeting. After reviewing written comments, the study chairs and the DFO may choose to invite the submitter of the comments to orally present their issue during a future open meeting.

The DFO, in consultation with the executive committee, may allot a specific amount of time for members of the public to present their issues for discussion.

Public's Accessibility to the Meeting: The Department of the Army has determined that the Multi-Doman Operations study and the Man Unmanned-Teaming study are classified and are thus closed to the public in accordance with 5 U.S.C. 552b(c) (1), which permits Federal Advisory Committee meetings to be closed which are likely to “disclose matters that are (A) specifically authorized under criteria established by an Executive Order to be kept secret in the interest of national defense or foreign policy and (B) in fact properly classified pursuant to such Executive Order.”

Brenda S. Bowen,
Army Federal Register Liaison Officer.

[FR Doc. 2018-11018 Filed 5-22-18; 8:45 am]

BILLING CODE 5001-03-P